DEPARTMENT OF DEFENSE

Office of the Secretary

[Transmittal Nos. 13-79]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-79 with attached transmittal, policy justification, and Sensitivity of Technology.

Dated: May 15, 2014.
Aaron Siegel,
Alternate OSD Federal Register Liaison Officer, Department of Defense.

Transmittal No. 13-79

Notice of Proposed Issuance of Letter of Offer Pursuant to Section 36(b)(1) of the Arms Export Control Act, as amended

(i) Prospective Purchaser: Iraq

(ii) Total Estimated Value:

Major Defense Equipment * | $290 million
Other | $500 million
Total | $790 million
* As defined in Section 47(6) of the Arms Export Control Act.

(iii) Description and Quantity or Quantities of Articles or Services under Consideration for Purchase: 24 AT-6C Texan II Aircraft, 2 spare PT-6A-68 Turboprop engines, 2 spare ALE-47 Counter-Measure Dispensing Systems and/or 2 spare AAR-47 Missile Launch Detection Systems, non-SAASM global positioning systems with CMA-4124, spare and repair parts, maintenance, support equipment, publications and technical documentation, tanker support, ferry services, personnel training and training equipment, U.S. Government and contractor engineering and logistics support services, and other related elements of logistics support.

(iv) Military Department: Air Force (SAC)

(v) Prior Related Cases, if any: None

(vi) Sales Commission, Fee, etc., Paid, Offered, or Agreed to be Paid: None

(vii) Sensitivity of Technology Contained in the Defense Article or Defense Services Proposed to be Sold: See Annex attached.

(viii) Date Report Delivered to Congress: 13 May 2014

POLICY JUSTIFICATION

Iraq—AT-6C Texan II Aircraft

The Government of Iraq has requested a possible sale of 24 AT-6C Texan II Aircraft, 2 spare PT-6A-68 Turboprop engines, 2 spare ALE-47 Counter-Measure Dispensing Systems and/or 2 spare AAR-47 Missile Launch Detection Systems, non-SAASM global positioning systems with CMA-4124, spare and repair parts, maintenance, support equipment, publications and technical documentation, tanker support, ferry services, personnel training and training equipment, U.S. Government and contractor engineering and logistics support services, and other related elements of logistics support. The estimated cost is $790 million.

This proposed sale will contribute to the foreign policy and national security of the United States by helping to improve the security of a strategic partner. This proposed sale directly supports the Government of Iraq and serves the interests of the people of Iraq and the United States.

The proposed sale of these aircraft, equipment, and support will enhance the ability of the Iraqi forces to sustain themselves in their efforts to bring stability to Iraq and to prevent overflow of unrest into neighboring countries.

The proposed sale of this equipment and support will not alter the basic military balance in the region.

The principal contractors will be:

Beechcraft Defense Company, Wichita, Kansas

Lockheed Martin Mission Systems and Training, Oswego, New York

CAE USA, Little Rock, Arkansas and Tampa, Florida

Pratt & Whitney Corporation, Quebec, Canada and Bridgeport, West Virginia

Martin Baker in Middlesex, United Kingdom

Hartzell Propeller, Piqua, Ohio

Canadian Marconi, Montreal, Canada

L-3COM Wescam, Burlington, Canada

L-3COM Systems West, Salt Lake City, Utah

There are no known offset agreements proposed in connection with this potential sale.

The proposed sale will involve multiple trips to Iraq involving many U.S. government and contractor representatives over a period of 15 years for program management, program and technical reviews, training, maintenance support, and site surveys.

There will be no adverse impact on U.S. defense readiness as a result of this proposed sale.

Transmittal No. 13-79

Notice of Proposed Issuance of Letter of Offer Pursuant to Section 36(b)(1) of the Arms Export Control Act

Annex—Item No. vii

(vii) Sensitivity of Technology:

1. The AT-6C is a light attack variant of the T-6B military training aircraft designed to employ in a low threat scenario against unconventional threats. It is equipped with an integrated Electro-Optical/Infrared (EO/IR) Laser sensor suite, which gives it a day/night Intelligence Surveillance Reconnaissance (ISR) capability with a laser illuminator/range finder/designator to allow employment of the AGM-114M3 missile. The aircraft has six external hardpoints for weapons and fuel carriage. The Iraqi variant will be equipped for AGM-114 missiles, external fuel tanks, and HMP-400 .50 cal gun pods. The ISR package allows for datalink capabilities which are compatible with the current Iraqi ISR assets. Critical cockpit, fuel system, and engine components will have aircraft armor able to withstand small arms fire. The hardware and software are Unclassified. Technical data and documentation to be provided are Unclassified.

2. The AN/ALE-47 Counter-Measures Dispensing System (CMDS) is an integrated, threat-adaptive, software-programmable dispensing system capable of dispensing chaff, flares, and active radio frequency expendables. The threats countered by the CMDS include radar-directed anti-aircraft artillery (AAA), radar command-guided missiles, radar homing-guided missiles, and infrared (IR) guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes. Hardware is Confidential. Software is classified up to Secret. Technical data and documentation to be provided are Unclassified.

3. The AN/AAR-47 Missile Approach Warning System (MWS): The AN/AAR-47 is an aircraft passive MWS designed for detection of incoming surface-to-air and air-to-air missiles on transport and helicopter aircraft. The system detects, identifies, and displays potential threats. The AN/AAR-47 warns of missile approach by detecting radiation associated with the rocket motor and automatically initiates flare ejection. Hardware is Unclassified. Software is classified up to Secret. Technical data and documentation to be provided is Unclassified.

4. If a technologically advanced adversary were to obtain knowledge of the specific hardware and software elements, the information could be used to develop countermeasures that might reduce weapon system effectiveness or be used in the development of a system with similar or advanced capabilities.

5. A determination has been made that the recipient country can provide the same degree of protection for the sensitive technology being released as the U.S. Government. This sale is necessary in furtherance of the U.S. foreign policy and national security objectives outlined in the Policy Justification.

6. All defense articles and services listed in this transmittal have been authorized for release and export to the Government of Iraq.

[FR Doc. 2014-11621 Filed 5-19-14; 8:45 am]

BILLING CODE 5001-06-P